DEPARTMENT OF THE TREASURY

Submission for OMB Review; Comment Request

July 17, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 30, 2001 to be assured of consideration.

Bureau of the Public Debt (PD)

OMB Number: 1535-0082.

Form Number: PD F 5237.

Type of Review: Extension.

Title: Subscription for Purchase of U.S. Treasury Securities State and Local Government Series One-Day Certificates of Indebtedness.

Description: PD F 5237 is used to collect information from State and Local Government entities wishing to purchase Treasury Securities.

Respondents: State, Local, or Tribal Government.

Estimated Number of Respondents: 300.

Estimated Burden Hours Per Respondent: 8 minutes.

Frequency of Response: On occasion.

Estimated Total Reporting Burden Hours: 39 hours.

OMB Number: 1535-0083.

Form Number: PD F 5238.

Type of Review: Extension.

Title: Request for Redemption of U.S. Treasury Securities—State and Local Government Series One-Day Certificates of Indebtedness.

Description: PD F 5238 is used to collect information from State and Local Government entities to process redemptions of U.S. Treasury Securities.

Respondents: State, Local, or Tribal Government.

Estimated Number of Respondents: 300.

Estimated Burden Hours Per Respondent: 3 minutes.

Frequency of Response: On occasion.

Estimated Total Reporting Burden Hours: 15 hours.

OMB Number: 1535-0097.

Form Number: PD Fs 4087, 4087-1, 4087-3, and 5380.

Type of Review: Extension.

Title: Bond of Indemnity and Detached Coupon Statement.

Description: The information is requested to support claims for relief on account of lost, stolen, or destroyed securities or coupons.

Respondents: Individuals or households, business or other for-profit, not-for-profit institutions, State, Local, or Tribal Government.

Estimated Number of Respondents: 5,500.

Estimated Burden Hours Per Respondent: 10 minutes.

Frequency of Response: On occasion.

Estimated Total Reporting Burden Hours: 1,333 hours.

OMB Number: 1535-0112.

Form Number: PD F 5395.

Type of Review: Extension.

Title: Treasury Securities Commercial Tender Form.

Description: The information is requested to process the tenders and to ensure compliance with regulations.

Respondents: Individuals or households, business or other for-profit, not-for-profit institutions.

Estimated Number of Respondents: 1,500.

Estimated Burden Hours Per Respondent: 15 minutes.

Frequency of Response: On occasion.

Estimated Total Reporting Burden Hours: 375 hours.

OMB Number: 1535-0117.

Form Number: PD F 1010.

Type of Review: Extension.

Title: Resolution by Governing Body of an Organization Authorizing Assignment and Disposition of Specified Securities Owned in its Own Right or in a Fiduciary Capacity.

Description: PD F 1010 is completed by an official of an organization that is designated to act on behalf of the organization.

Respondents: Business or other for-profit.

Estimated Number of Respondents: 25.

Estimated Burden Hours Per Respondent: 10 minutes.

Frequency of Response: On occasion.

Estimated Total Reporting Burden Hours: 4 hours.

OMB Number: 1535-0128.

Form Number: PD F 5396.

Type of Review: Extension.

Title: Direct Deposit Sign Up Form.

Description: PD F 5396 is used to process payment data to the financial institution.

Respondents: Individuals or households.

Estimated Number of Respondents: 20,000.

Estimated Burden Hours Per Respondent: 10 minutes.

Frequency of Response: On occasion.

Estimated Total Reporting Burden Hours: 3,400 hours.

Clearance Officer: Vicki S. Thorpe (304) 480-6553, Bureau of the Public Debt, 200 Third Street, Parkersburg, West VA 26106-1328.

OMB Reviewer: Alexander T. Hunt (202) 395-7860, Office of Management and Budget, Room 10226, New Executive Office Building, Washington, DC 20503.

Mary A. Able,
Departmental Reports, Management Officer.

[FR Doc. 01-19010 Filed 7-30-01; 8:45 am]

BILLING CODE 4810-40-P